DEPARTMENT OF COMMERCE

National Oceanic and Atmospheric Administration

Proposed Information Collection; Comment Request; Gulf of Alaska Trawl Fishery, Rationalization Sociocultural Study

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 1, 2016.

ADDRESSES: Direct all written comments to Jennifer Jessup, Departmental Paperwork Clearance Officer, Department of Commerce, Room 66165, 14th and Constitution Avenue NW., Washington, DC 20230 (or via the Internet at JJessup@doc.gov).

FOR FURTHER INFORMATION CONTACT: Requests for additional information or copies of the information collection instrument and instructions should be directed to Stephen Kasperski, (206) 526-4727 or Stephen.kasperski@noaa.gov.

SUPPLEMENTARY INFORMATION:

I. Abstract

This request is for a revision to an existing information collection using a slightly modified survey instrument by removing questions that were unclear or not consistently interpreted by respondents, or are irrelevant after more information about the program design have been developed by the North Pacific Fishery Management Council, and clarifying the wording of remaining questions.

Historically, changes in fisheries management regulations have been shown to result in impacts to individuals within the fishery. An understanding of social impacts in fisheries—achieved through the collection of data on fishing communities, as well as on individuals who fish—is a requirement under several federal laws. Laws such as the National Environmental Policy Act and the Magnuson-Stevens Fishery Conservation and Management Act (as amended 2007) describe such requirements. The collection of this data not only helps to inform legal requirements for the existing management actions, but will inform future management actions requiring equivalent information.

Fisheries rationalization programs have an impact on those individuals participating in the affected fishery, as well as their communities and may also have indirect effects on other fishery participants. The North Pacific Fishery Management Council is considering the implementation of a new rationalization program for the Gulf of Alaska trawl fishery. This research aims to study the affected individuals both prior to and after the design and implementation of the rationalization program. One year of pre-program design data from this survey was collected in 2014. The current proposal is to collect a second round of baseline data collection post-program design using a slightly modified survey instrument (e.g., dropping questions that were unclear, removing elements not under consideration by the North Pacific Fishery Management Council, and clarifying the wording of the remaining questions).

The data collected will be used in conjunction with the 2014 survey data to provide a description of the changes that have occurred in the industry as the program has been developed as well as allow for an analysis of the changes experienced by individuals and communities after the rationalization program has been implemented. The measurement of these changes will lead to a greater understanding of the social impacts the program may have on the individuals and communities affected by fisheries regulations. To achieve these goals, it is critical to collect the necessary data after program design and prior to the implementation of the rationalization program to understand what changes in the industry were made prior to implementation in expectation of future changes in management. This second baseline will also allow for the comparison of data collected after the management program has been implemented to understand how rationalization programs impact individuals and communities throughout the design and implementation of the program.

II. Method of Collection

Literature reviews, secondary sources including Internet sources, United States Census data, key informants, focus groups, paper surveys, electronic surveys, and in-person interviews will be utilized in combination to obtain the greatest breadth of information as possible.

III. Data

OMB Control Number: 0648-0685.

Form Number: None.

Type of Review: Revision of an existing information collection.

Affected Public: Individuals or households; business or other for-profit organizations; not-for-profit institutions.

Estimated Number of Respondents: 2,500.

Estimated Time per Response: 1 hour and 30 minutes.

Estimated Total Annual Burden Hours: 3,750 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2015.
Sarah Brabson,
NOAA PRA Clearance Officer.

[FR Doc. 2015-30622 Filed 12-2-15; 8:45 am]

BILLING CODE 3510-22-P